DEPARTMENT OF THE INTERIOR

National Park Service

[NPS-WASO-NAGPRA-NPS0037263; PPWOCRADN0-PCU00RP14.R50000]

Notice of Inventory Completion: North Carolina Office of State Archaeology, Raleigh, NC

AGENCY: National Park Service, Interior.

ACTION: Notice.

SUMMARY: In accordance with the Native American Graves Protection and Repatriation Act (NAGPRA), the North Carolina Office of State Archaeology has completed an inventory of human remains and associated funerary objects and has determined that there is a cultural affiliation between the human remains and associated funerary objects and Indian Tribes or Native Hawaiian organizations in this notice. The human remains and associated funerary objects were removed from Burke County, NC.

DATES: Repatriation of the human remains and associated funerary objects in this notice may occur on or after February 20, 2024.

ADDRESSES: Emily McDowell, Office of State Archaeology, 215 West Lane Street, Raleigh, NC 27616, telephone (919) 715-5599, email emily.mcdowell@dncr.nc.gov.

SUPPLEMENTARY INFORMATION: This notice is published as part of the National Park Service's administrative responsibilities under NAGPRA. The determinations in this notice are the sole responsibility of the North Carolina Office of State Archaeology. The National Park Service is not responsible for the determinations in this notice. Additional information on the determinations in this notice, including the results of consultation, can be found in the inventory or related records held by the North Carolina Office of State Archaeology.

Description

Human remains representing, at minimum, three individuals were removed from Burke County, NC. Burials were excavated from the Berry Site/Joara/Fort San Juan in 1986 by Dr. David Moore of Warren Wilson College. The site itself is both an American Indian Mississippian village and Historic 16th-century Spanish settlement known as Joara and Fort San Juan, respectively. Joara is known as one of the largest Mississippian settlements in North Carolina. It is unclear when this collection came into the possession of the Office of State Archaeology in Raleigh, NC. The three individuals were removed from two burials and can be identified as follows: Burial 1, one adult male aged 23-30; Burial 2, two adult females aged less than 26 years (Individual A) and 18-22 years (Individual B). The 57 associated funerary objects are two feather rachis, one iron knife, eight chipped stone projectile points, one clay pipe, one quartz cobble, two ground stone, 10 flakes, one bag turtle carapace fragments, two copper discs, three charcoal fragments, seven pieces of organic fibers, two rocks, 10 washings/soil samples from Burial 1, four copper fragments, one charcoal fragment, and two soil samples from Burial 2.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, and expert opinion.

Determinations

Pursuant to NAGPRA and its implementing regulations, and after consultation with the appropriate Indian Tribes and Native Hawaiian organizations, the North Carolina Office of State Archaeology has determined that:

• The human remains described in this notice represent the physical remains of three individuals of Native American ancestry.

• The 57 objects described in this notice are reasonably believed to have been placed with or near individual human remains at the time of death or later as part of the death rite or ceremony.

• There is a relationship of shared group identity that can be reasonably traced between the human remains and associated funerary objects described in this notice and the Catawba Indian Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 20, 2024. If competing requests for repatriation are received, the North Carolina Office of State Archaeology must determine the most appropriate requestor prior to repatriation. Requests for joint repatriation of the human remains and associated funerary objects are considered a single request and not competing requests. The North Carolina Office of State Archaeology is responsible for sending a copy of this notice to the Indian Tribes and Native Hawaiian organizations identified in this notice.

Authority: Native American Graves Protection and Repatriation Act, 25 U.S.C. 3003, and the implementing regulations, 43 CFR 10.9, 10.10, and 10.14.

Dated: January 11, 2024.
Melanie O'Brien,
Manager, National NAGPRA Program.

[FR Doc. 2024-00831 Filed 1-17-24; 8:45 am]

BILLING CODE 4312-52-P